DEPARTMENT OF COMMERCE

National Institute of Standards and Technology

[Docket No. 060616171-6171-01]

Privacy Act of 1974: System of Records

AGENCY: Department of Commerce, National Institute of Standards and Technology.

ACTION: Notice of Amendment of Privacy Act System of Records; COMMERCE/NIST-6, Participants in Experiments, Studies, and Surveys.

SUMMARY: In accordance with the Privacy Act of 1974, as amended, 5 U.S.C. 552a(e)(4) and (11), the Department of Commerce (Department) is issuing notice of the intent to amend the system of records entitled COMMERCE/NIST-6, Participants in Experiments, Studies, and Surveys to include the name change of the National Bureau of Standards (NBS) to the National Institute of Standards and Technology (NIST); update internal organizational unit names, legal authorities, and research directions.

DATES: To be considered, written comments must be submitted on or before July 2, 2007. Unless comments are received, the amendments to the system of records will become effective as proposed on the date of publication of a subsequent notice in the Federal Register.

ADDRESSES: Comments may be mailed to Catherine Fletcher, Privacy Act Officer, National Institute of Standards and Technology, 100 Bureau Drive, Mail Stop 1710, Gaithersburg, MD 20899-1710.

FOR FURTHER INFORMATION CONTACT: Catherine Fletcher at (301) 975-4074 or by e-mail at catherine.fletcher@nist.gov.

SUPPLEMENTARY INFORMATION: In 1989 the name of the National Bureau of Standards (NBS) was changed to the National Institute of Standards and Technology (NIST). This system is updated to reflect that name change, along with updating internal organizational unit names; contacts; locations; and system descriptions.

COMMERCE/NIST-6

System Name:

Participants in Experiments, Studies, and Surveys.

Security Classification:

None.

System Location:

Portions of the system may be located in any one of the following locations:

(a) Office of the Director, Room A1000, Building 101, NIST, 100 Bureau Drive, Gaithersburg, MD 20899-1000;

(b) Technology Services, Room B311, 820 West Diamond Avenue, Gaithersburg, MD 20899-2000;

(c) Director for Administration and Chief Financial Officer, Room A1105, Building 101, NIST, 100 Bureau Drive, Gaithersburg, MD 20899-3200;

(d) Advanced Technology Program, Room A407, Building 101, NIST, 100 Bureau Drive, Gaithersburg, MD 20899-4701;

(e) Manufacturing Extension Partnership Program, Room C100, Building 301, NIST, 100 Bureau Drive, Gaithersburg, MD 20899-4800;

(f) Electronics and Electrical Engineering Laboratory, Room B358, Building 220, NIST 100 Bureau Drive, Gaithersburg, MD 20899-8100;

(g) Manufacturing Engineering Laboratory, Room B322, Building 220, NIST, 100 Bureau Drive, Gaithersburg, MD 20899-8200;

(h) Chemical Science and Technology Laboratory, Room A311, Building 227, NIST, 100 Bureau Drive, Gaithersburg, MD 20899-8300;

(i) Physics Laboratory, Room B160, Building 221, NIST 100 Bureau Drive, Gaithersburg, MD 20899-8400;

(j) Materials Science and Engineering Laboratory, Room B310, Building 223, 100 Bureau Drive, Gaithersburg, MD 20899-8500;

(k) Building and Fire Research Laboratory, Room B216, Building 226, 100 Bureau Drive, Gaithersburg, MD 20899-8600;

(l) Information Technology Laboratory, Room B264, 820 West Diamond Avenue, Gaithersburg, MD 20899-8900.

(m) For those portions located with contractors, a complete list of contractors and addresses is available from the Chief, Acquisition and Logistics Division, NIST, 100 Bureau Drive, Mail Stop 3570, Gaithersburg, MD 20899-3570.

Categories of individuals covered by the system:

Individuals who have voluntarily agreed to serve or who have served as participants in socio-economic, technical, or psychological experiments, studies and surveys undertaken in furtherance of authorized research or investigation activities.

Categories of records in the system:

Name, age, social security number (voluntary), birth date, place of birth, sex, race, home address and telephone number, business address and telephone number, education, income, occupation, family size and composition, patterns of product use, drug sensitivity data, medical, dental and physical history information, and such other information as is necessary, to be determined by the subject matter and purpose of the experiment, study or survey, including data derived from participants' responses during the course of the authorized research.

Authority for maintenance of the system:

15 U.S.C. 271 et seq.; 15 U.S.C. 290; 15 U.S.C. 3710a; 15 U.S.C. 7301 et seq.; 42 U.S.C. 15441-15453.

Purpose(s):

This information will allow NIST to retain appropriate records of participants in its research projects and investigation.

Routine uses of records maintained in the system, including categories of users and the purposes of such uses:

(1) Information in the system may be disclosed to Federal agencies and other outside organizations which have sponsored the research in connection with which the data were obtained. In addition, information in the system may be shared with National Construction Safety Team members, Federal agencies, other outside organizations, guest researchers, contractors, and others with whom NIST has established a duty of confidentiality, when necessary to accomplish the research or investigation for which the data were obtained.

(2) A record in this system of records may be disclosed to a Member of Congress submitting a request involving an individual when the individual has requested assistance from the Member with respect to the subject matter of the record.

(3) A record in this system of records may be disclosed to the Department of Justice in connection with determining whether disclosure thereof is required by the Freedom of Information Act (5 U.S.C. 552).

(4) A record in this system of records may be disclosed to a contractor of the Department having need for the information in the performance of the contract, but not operating a system of records within the meaning of 5 U.S.C. 552a(m).

(5) A record from this system of records may be disclosed to the Administrator, General Services, or his designee, during an inspection of records conducted by GSA as part of that agency's responsibility to recommend improvements in records management practices and programs, under authority of 44 U.S.C. 2904 and 2906. Such disclosure shall be made in accordance with the GSA regulations governing inspection of records for this purpose and any other relevant directive. Such disclosure shall not be used to make determinations about individuals.

Policies and practices for storing, retrieving, accessing, retaining, and disposing of records in the system:

Storage:

Paper records in file folders, digital storage material and other electronic storage material, and microform.

Retrievability:

Filed alphabetically by name, or control number, or other code identifier.

Safeguards:

Records are located in locked metal file cabinets in secured rooms with limited access or secured premises or secured computers with access limited to those whose official duties require access. Computers on which records are stored are password protected. Any records maintained by contractors will be maintained in similar fashion in accordance with contractual specifications.

Retention and disposal:

Retained in accord with NIST's records control schedule.

System manager(s) and addresses:

(a) NIST Deputy Director, Office of the Director, Room A1000, Building 101, NIST, 100 Bureau Drive, Gaithersburg, MD 20899-1000;

(b) Director, Technology Services, Room B311, 820 West Diamond Avenue, Gaithersburg, MD 20899-2000;

(c) Director for Administration and Chief Financial Officer, Room A1105, Building 101, NIST, 100 Bureau Drive, Gaithersburg, MD 20899-3200;

(d) Director, Advanced Technology Program, Room A407, Building 101, NIST, 100 Bureau Drive, Gaithersburg, MD 20899-4701;

(e) Director, Manufacturing Extension Partnership Program, Room C100, Building 301, NIST, 100 Bureau Drive, Gaithersburg, MD 20899-4800;

(f) Director, Electronics and Electrical Engineering Laboratory, Room B358, Building 220, NIST 100 Bureau Drive, Gaithersburg, MD 20899-8100;

(g) Director, Manufacturing Engineering Laboratory, Room B322, Building 220, NIST, 100 Bureau Drive, Gaithersburg, MD 20899-8200;

(h) Director, Chemical Science and Technology Laboratory, Room A311, Building 227, NIST, 100 Bureau Drive, Gaithersburg, MD 20899-8300;

(i) Director, Physics Laboratory, Room B160, Building 221, NIST 100 Bureau Drive, Gaithersburg, MD 20899-8400;

(j) Director, Materials Science and Engineering Laboratory, Room B310, Building 223, 100 Bureau Drive, Gaithersburg, MD 20899-8500;

(k) Director, Building and Fire Research Laboratory, Room B216, Building 226, 100 Bureau Drive, Gaithersburg, MD 20899-8600;

(l) Director, Information Technology Laboratory, Room B264, 820 West Diamond Avenue, Gaithersburg, MD 20899-8900.

(m) For those portions located with contractors, a complete list of contractors and addresses is available from the Chief, Acquisition and Logistics Division, NIST, 100 Bureau Drive, Mail Stop 3570, Gaithersburg, MD 29899-3570.

Notification procedure:

Information may be obtained from: Privacy Act Officer, NIST, 100 Bureau Drive, Mail Stop 1710, Gaithersburg, MD 20899-1710. Requester should provide name, approximate date, and title of experiment, study, or survey pursuant to the inquiry provisions of the Department's rules which appear in 15 CFR part 4.

Record access procedures:

Requests from individuals should be addressed to: Same address as stated in the notification section above.

Contesting record procedures:

The Department's rules for access, for contesting contents, and for appealing initial determinations by the individual concerned appear in 15 CFR part 4. Use same address as stated in the notification section above.

Record source categories:

Subject individuals and those authorized by the individual to furnish information.

Exemptions Claimed for the System:

None.

Dated: May 24, 2007.
Brenda Dolan,
Department of Commerce, Freedom of Information/Privacy Act Officer.

[FR Doc. E7-10579 Filed 5-31-07; 8:45 am]

BILLING CODE 3510-13-P